DEPARTMENT OF TRANSPORTATION

Federal Aviation Administration

14 CFR Part 39

[Docket No. FAA-2013-0467; Directorate Identifier 2013-NM-023-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318, A319, A320, and A321 series airplanes. This proposed AD was prompted by reports of certain sliding windows that were difficult to operate after landing. This proposed AD would require a detailed inspection to identify part numbers of sliding windows and sliding window seals, and modification if necessary. This proposed AD also includes an optional replacement. We are proposing this AD to detect and correct incorrect seals, which could lead to the functional loss of the sliding window as an exit, possibly preventing the flightcrew from safely evacuating the airplane during an emergency.

DATES: We must receive comments on this proposed AD by August 19, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. For PPG Aerospace service information identified in this proposed AD, contact PPG Aerospace, 12780 San Fernando Road, Sylmar, CA 91342; telephone 818-362-6711; fax 818-362-0603; Internet http://corporateportal.ppg.com/na/aerospace. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-0467; Directorate Identifier 2013-NM-023-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0011, dated January 15, 2013 (referred to after this as the Mandatory Continuing Airworthiness Information, or “the MCAI”), to correct an unsafe condition for the specified products. The MCAI states:

Several occurrences have been reported on A320 family aeroplanes of PPG sliding windows that were difficult to operate after landing.

The investigation results revealed that when a seal having Part Number (P/N) 22-17-7640-1 or P/N 22-17-7640-2 is installed on a sliding window, closure of the window can create a vacuum between the 2 tubes of the pressure seal, leading to the window remaining stuck to the frame on the fuselage side, due to suction effect.

This condition, if not detected and corrected, could lead to the functional loss of the sliding window as an exit, possibly preventing the flight crew from safely evacuating the aeroplane during an emergency.

For the reasons described above, this [EASA] AD requires a one-time detailed inspection (DI) of the sliding windows and its seal to identify the affected sliding window seals and, depending on findings, accomplishment of the applicable corrective actions [corrective action includes a modification or replacement].

The subject area on certain Airbus Model A318, A319, and A321 series airplanes is almost identical to that on the affected Model A320 series airplanes. Therefore, those Model A318, A319, and A321 series airplanes may be subject to the unsafe condition revealed on the Model A320 series airplanes. You may obtain further information by examining the MCAI in the AD docket.

Relevant Service Information

Airbus has issued Service Bulletin A320-56-1015, dated September 14, 2012; and Service Bulletin A320-56-1016, including Appendices 01 and 02, dated September 14, 2012. PPG Aerospace has issued Service Bulletin 165312-56-001, dated February 29, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

While paragraph (2) of EASA AD 2013-0011, dated January 15, 2013, requires modification of the sliding window seal before further flight, this AD requires modification of the sliding window seal within the compliance time specified in paragraph (g) of this AD. This difference has been coordinated with EASA.

Costs of Compliance

Based on the service information, we estimate that this proposed AD would affect about 851 products of U.S. registry. We also estimate that it would take about 3 work-hours per product to comply with the basic requirements of this proposed AD. The average labor rate is $85 per work-hour. Based on these figures, we estimate the cost of the proposed AD on U.S. operators to be $217,005, or $255 per product.

In addition, we estimate that any necessary follow-on actions would take about 1 work-hour and require parts costing $0, for a cost of $85 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0467; Directorate Identifier 2013-NM-023-AD.

(a) Comments Due Date

We must receive comments by August 19, 2013.

(b) Affected ADs

None.

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 56, Windows.

(e) Reason

This AD was prompted by reports of certain sliding windows that were difficult to operate after landing. We are issuing this AD to detect and correct incorrect seals, which could lead to the functional loss of the sliding window as an exit, possibly preventing the flightcrew from safely evacuating the airplane during an emergency.

(f) Compliance

You are responsible for having the actions required by this AD performed within the compliance times specified, unless the actions have already been done.

(g) Inspection

Within 750 flight cycles or 750 flight hours, or within 4 months, after the effective date of this AD, whichever occurs first: Do a detailed inspection to identify part numbers (P/Ns) of each window and seal of the left-hand (LH) and right-hand (RH) sliding windows and sliding window seals, in accordance with the Accomplishment Instructions of Airbus Service Bulletin A320-56-1016, including Appendices 01 and 02, dated September 14, 2012. A review of airplane maintenance records is acceptable in lieu of this inspection if the part number of the window and seal of the LH and RH sliding windows and sliding window seals can be conclusively determined from that review.

(h) Modification

If a sliding window part number identified in table 1 to paragraph (h) of this AD is found during the inspection required by paragraph (g) of this AD, and the part number does not have modification amendment M, and does have sliding window seals having P/N 22-17-7640-1 or P/N 22-17-7640-2 installed: Within the compliance time specified in paragraph (g) of this AD, modify the sliding window seal, in accordance with the Accomplishment Instructions of Airbus Service Bulletin A320-56-1015, dated September 14, 2012.

Table 1 to Paragraph (h) of This AD—Affected PPG Aerospace Sliding Window Part Numbers
Left-hand | Right-hand
NP165312-1 | NP165312-2
NP165312-3 | NP165312-4
NP165312-5 | NP165312-6
NP165312-7 | NP165312-8
NP165312-9 | NP165312-10
NP165312-11 | NP165312-12

(i) Optional Replacement

For sliding windows identified as affected in paragraph (h) of this AD, replacement of a sliding window seal having P/N 22-17-7640-1 L/H or P/N 22-17-7640-2 R/H with a seal having P/N 22-17-7640-3 L/H or P/N 22-17-7640-4 R/H, respectively done, in accordance with a method approved by either the Manager, International Branch, ANM-116, Transport Airplane Directorate, FAA, or the European Aviation Safety Agency (EASA) (or its delegated agent), is an acceptable alternative method of compliance with the modification required by paragraph (h) of this AD.

Note 1 to paragraph (i) of this AD: Guidance for replacement of a sliding window seal can be found in Page Block 401 of Sub-section 56-12-11 of the Airbus A318/A319/A320/A321 Aircraft Maintenance Manual.

(j) Exceptions to Requirements of Paragraphs (g) and (h) of this AD

(1) Airplanes on which Airbus modification 153512 (installation of sliding window with P/N NP165312-13 and P/N NP165312-14 with improved seal) or modification 153534 (installation of sliding window with P/N NP165312-11 and P/N NP165312-12 with amendment M) has been embodied in production are not affected by the requirements of paragraphs (g) and (h) of this AD, provided that no sliding window or sliding window seal has been replaced since first flight.

(2) Airplanes on which Airbus modification 39587 (installation of affected seal on PPG Aerospace sliding windows) has not been embodied in production are not affected by the requirements of paragraphs (g) and (h) of this AD, provided that no sliding window or sliding window seal has been replaced since first flight.

(k) Parts Installation Limitation

As of the effective date of this AD, no person may install on any airplane any PPG Aerospace sliding window with a part number listed in table 1 to paragraph (h) of this AD with a seal having P/N 22-17-7640-1 or P/N 22-17-7640-2, unless the seal has been modified in accordance with the Accomplishment Instructions of Airbus Service Bulletin A320-56-1015, dated September 14, 2012; or PPG Aerospace Service Bulletin 165312-56-001, dated February 29, 2012.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

(1) Refer to Mandatory Continuing Airworthiness Information (MCAI) EASA Airworthiness Directive 2013-0011, dated January 15, 2013, for related information.

(2) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For PPG Aerospace service information identified in this AD, contact PPG Aerospace, 12780 San Fernando Road, Sylmar, CA 91342; telephone 818 362 6711; fax 818 362 0603; Internet http://corporateportal.ppg.com/na/aerospace. You may review copies of the referenced service information at the FAA, Transport Airplane Directorate, 1601 Lind Avenue SW., Renton, WA. For information on the availability of this material at the FAA, call 425-227-1221.

Issued in Renton, Washington, on June 14, 2013.
Jeffrey E. Duven,
Acting Manager, Transport Airplane Directorate, Aircraft Certification Service.

[FR Doc. 2013-15947 Filed 7-2-13; 8:45 am]

BILLING CODE 4910-13-P